DEPARTMENT OF HOMELAND SECURITY

Coast Guard

33 CFR Part 100

[Docket No. USCG-2021-0640]

Special Local Regulations; Ironman Triathlon, Augusta, GA

AGENCY: Coast Guard, Department of Homeland Security (DHS).

ACTION: Notificaion of enforcement of regulation.

SUMMARY: The Captain of the Port (COTP) Savannah, Georgia will enforce a special local regulation for the Ironman Triathlon in Augusta, Georgia on September 26, 2021, to provide for the safety of life on navigable waterways during this event. Our regulation for marine events within the Seventh Coast Guard District identifies the regulated area for this event in Augusta, GA. During the enforcement periods, the operator of any vessel in the regulated area must comply with directions from the Patrol Commander.

DATES: The regulations in 33 CFR 100.701, Table 1 to § 100.701, Section (d), Item 3, will be enforced from 6:30 a.m. until 11:30 a.m., on September 26, 2021.

FOR FURTHER INFORMATION CONTACT: If you have questions about this notification of enforcement, call or email MST1 Stephanie Daley, Marine Safety Unit Savannah Office of Waterways Management, U.S. Coast Guard; telephone 912-652-4353, extension 257, or email Stephanie.L.Daley@uscg.mil.

SUPPLEMENTARY INFORMATION: The Coast Guard will enforce a special local regulation in 33 CFR 100.701, Table 1 to § 100.701, Section (d), Item 3, for the Ironman Triathlon, from 6:30 a.m. to 11:30 a.m., on September 26, 2021.

This action is being taken to provide for the safety of life on navigable waterways during this event. Our regulation for marine events within the Seventh Coast Guard District, 33 CFR 100.701, specifies the location of the regulated area for the Ironman Triathlon which encompasses portions of the Savannah River and its branches. During the enforcement periods, as reflected in 33 CFR 100.701(c), if you are the operator of a vessel in the regulated area you must comply with directions from the Patrol Commander. The Coast Guard may be assisted by other Federal, State, or local law enforcement agencies in enforcing this regulation.

K.A. Broyles,
Commander, U.S. Coast Guard, Captain of the Port, Savannah, GA.

[FR Doc. 2021-18511 Filed 8-26-21; 8:45 am]

BILLING CODE 9110-04-P